DEPARTMENT OF ENERGY

Federal Energy Regulatory Commission

Combined Notice of Filings #1

Take notice that the Commission received the following electric corporate filings:

Docket Numbers: EC21-50-000.

Applicants: Powervine Energy, LLC.

Description: Application for Authorization Under Section 203 of the Federal Power Act of Powervine 50Energy, LLC.

Filed Date: 2/10/21.

Accession Number: 20210210-5151.

Comments Due: 5 p.m. ET 3/3/21.

Take notice that the Commission received the following electric rate filings:

Docket Numbers: ER10-1123-007.

Applicants: Union Electric Company.

Description: Notice of Change in Status of Union Electric Company.

Filed Date: 2/10/21.

Accession Number: 20210210-5154.

Comments Due: 5 p.m. ET 3/3/21.

Docket Numbers: ER12-1633-004.

Applicants: U.S. Energy Partners, LLC.

Description: Notice of Non-Material Change in Status of U.S. Energy Partners, LLC.

Filed Date: 2/10/21.

Accession Number: 20210210-5155.

Comments Due: 5 p.m. ET 3/3/21.

Docket Numbers: ER19-1342-002.

Applicants: NMRD Data Center III, LLC.

Description: Compliance filing: NMRD DC III MBR Tariff to be effective 11/13/2020.

Filed Date: 2/11/21.

Accession Number: 20210211-5101.

Comments Due: 5 p.m. ET 3/4/21.

Docket Numbers: ER19-1343-002.

Applicants: NMRD Data Center II, LLC.

Description: Compliance filing: NMRD DC II MBR Tariff to be effective 11/13/2020.

Filed Date: 2/11/21.

Accession Number: 20210211-5089.

Comments Due: 5 p.m. ET 3/4/21.

Docket Numbers: ER20-2000-002.

Applicants: Clyde Onsite Generation, LLC.

Description: Compliance filing: Clyde Onsite Generation MBR Tariff to be effective 7/1/2020.

Filed Date: 2/11/21.

Accession Number: 20210211-5133.

Comments Due: 5 p.m. ET 3/4/21.

Docket Numbers: ER20-2761-002.

Applicants: Southwest Power Pool, Inc.

Description: Tariff Amendment: 1628R18 Western Farmers Electric Cooperative NITSA NOA to be effective 8/1/2020.

Filed Date: 2/11/21.

Accession Number: 20210211-5084.

Comments Due: 5 p.m. ET 3/4/21.

Docket Numbers: ER21-857-000; ER21-856-000.

Applicants: Trent River Solar, LLC, PGR Lessee P, LLC.

Description: Second Supplement to January 11, 2021 Trent River Solar, LLC, et al. tariff filings.

Filed Date: 2/10/21.

Accession Number: 20210210-5144.

Comments Due: 5 p.m. ET 3/3/21.

Docket Numbers: ER21-1066-000.

Applicants: Rock Aetna Power Partners, LLC.

Description: Request for Prospective Tariff Waiver of Rock Aetna Power Partners, LLC.

Filed Date: 2/4/21.

Accession Number: 20210204-5169.

Comments Due: 5 p.m. ET 2/25/21.

Docket Numbers: ER21-1090-000.

Applicants: PJM Interconnection, L.L.C.

Description: Tariff Cancellation: Notice of Cancellation of WMPA, SA No. 4911; Queue No. AC2-071 to be effective 3/22/2021.

Filed Date: 2/10/21.

Accession Number: 20210210-5087.

Comments Due: 5 p.m. ET 3/3/21.

Docket Numbers: ER21-1091-000.

Applicants: PJM Interconnection, L.L.C.

Description: § 205(d) Rate Filing: Amendment to ISA No. 4401, Queue No. AA1-095 to be effective 1/25/2016.

Filed Date: 2/10/21.

Accession Number: 20210210-5088.

Comments Due: 5 p.m. ET 3/3/21.

Docket Numbers: ER21-1092-000.

Applicants: AEP Texas Inc.

Description: § 205(d) Rate Filing: AEPTX-Rayos Del Sol Solar 4th A&R Interconnection Agreement to be effective 1/27/2021.

Filed Date: 2/10/21.

Accession Number: 20210210-5089.

Comments Due: 5 p.m. ET 3/3/21.

Docket Numbers: ER21-1093-000.

Applicants: Southwest Power Pool, Inc.

Description: § 205(d) Rate Filing: 2827R6 KPP and Evergy Kansas Central Meter Agent Agreement to be effective 2/1/2021.

Filed Date: 2/10/21.

Accession Number: 20210210-5090.

Comments Due: 5 p.m. ET 3/3/21.

Docket Numbers: ER21-1094-000.

Applicants: PJM Interconnection, L.L.C.

Description: Tariff Cancellation: Notice of Cancellation of WMPA, SA No. 4916; Queue No. AC2-070 to be effective 3/22/2021.

Filed Date: 2/10/21.

Accession Number: 20210210-5093.

Comments Due: 5 p.m. ET 3/3/21.

Docket Numbers: ER21-1095-000.

Applicants: AEP Texas Inc.

Description: § 205(d) Rate Filing: AEPTX-Rayos Del Sol Solar (Vancourt) 1st A&R Interconnection Agreement to be effective 1/27/2021.

Filed Date: 2/10/21.

Accession Number: 20210210-5131.

Comments Due: 5 p.m. ET 3/3/21.

Docket Numbers: ER21-1096-000.

Applicants: ITC Great Plains, LLC.

Description: Initial rate filing: ITC Great Plains Facilities Service Agreement to be effective 4/12/2021.

Filed Date: 2/11/21.

Accession Number: 20210211-5038.

Comments Due: 5 p.m. ET 3/4/21.

Docket Numbers: ER21-1097-000.

Applicants: Wisconsin Public Service Corporation.

Description: Notice of Cancellation of the Dynamic Scheduling and Intermittent Resource Regulation Agreement of Wisconsin Public Service Corporation.

Filed Date: 2/11/21.

Accession Number: 20210211-5048.

Comments Due: 5 p.m. ET 3/4/21.

Docket Numbers: ER21-1098-000.

Applicants: Contrail Wind Project, LLC.

Description: Tariff Cancellation: Notice of Cancellation of Market-Based Rate Tariff to be effective 4/13/2021.

Filed Date: 2/11/21.

Accession Number: 20210211-5086.

Comments Due: 5 p.m. ET 3/4/21.

Docket Numbers: ER21-1099-000.

Applicants: Jersey Central Power & Light Company, Public Service Electric and Gas Company, PJM Interconnection, L.L.C.

Description: § 205(d) Rate Filing: JCPL submits ECSA SA No. 5923 to be effective 4/13/2021.

Filed Date: 2/11/21.

Accession Number: 20210211-5087.

Comments Due: 5 p.m. ET 3/4/21.

Docket Numbers: ER21-1100-000.

Applicants: Westlands Transmission, LLC.

Description: § 205(d) Rate Filing: Amended Rate Schedule FERC No. 1, Transmission Service Agreement to be effective 4/13/2021.

Filed Date: 2/11/21.

Accession Number: 20210211-5097.

Comments Due: 5 p.m. ET 3/4/21.

Docket Numbers: ER21-1101-000.

Applicants: New York Independent System Operator, Inc, Consolidated Edison Company of New York, Inc.

Description: § 205(d) Rate Filing: 205 joint amended & restated LGIA: NYISO, ConEd, NRG Berrians, SA2535 to be effective 1/28/2021.

Filed Date: 2/11/21.

Accession Number: 20210211-5115.

Comments Due: 5 p.m. ET 3/4/21.

Docket Numbers: ER21-1102-000.

Applicants: PJM Interconnection, L.L.C.

Description: § 205(d) Rate Filing: Revised ISA, SA No. 2150 and Original ICSA, SA No. 5934; Queue No. AD1-097 to be effective 1/12/2021.

Filed Date: 2/11/21.

Accession Number: 20210211-5130.

Comments Due: 5 p.m. ET 3/4/21.

Docket Numbers: ER21-1103-000.

Applicants: Indianapolis Power & Light Company.

Description: Request for Prospective, Limited Waivers of Indianapolis Power & Light Company.

Filed Date: 2/11/21.

Accession Number: 20210211-5135.

Comments Due: 5 p.m. ET 3/4/21.

Docket Numbers: ER21-1104-000.

Applicants: PJM Interconnection, L.L.C.

Description: § 205(d) Rate Filing: Original ICSA, Service Agreement No. 5931; Queue Nos. AC2-186, AC2-187, AC2-188 to be effective 1/12/2021.

Filed Date: 2/11/21.

Accession Number: 20210211-5154.

Comments Due: 5 p.m. ET 3/4/21.

Docket Numbers: ER21-1105-000.

Applicants: PJM Interconnection, L.L.C.

Description: § 205(d) Rate Filing: First Revised ISA, Service Agreement No. 4511; Queue No. AF2-180 to be effective 1/12/2021.

Filed Date: 2/11/21.

Accession Number: 20210211-5165.

Comments Due: 5 p.m. ET 3/4/21.

Docket Numbers: ER21-1106-000.

Applicants: PJM Interconnection, L.L.C.

Description: § 205(d) Rate Filing: First Revised ISA, Service Agreement No. 4512; Queue No. AF2-179 to be effective 1/12/2021.

Filed Date: 2/11/21.

Accession Number: 20210211-5168.

Comments Due: 5 p.m. ET 3/4/21.

Take notice that the Commission received the following PURPA 210(m)(3) filings:

Docket Numbers: QM21-2-000.

Applicants: Cooperative Energy.

Description: Application of Cooperative Energy to Terminate Its Mandatory Purchase Obligation under the Public Utility Regulatory Policies Act of 1978.

Filed Date: 2/10/21.

Accession Number: 20210210-5162.

Comments Due: 5 p.m. ET 3/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2021.
Nathaniel J. Davis, Sr.,
Deputy Secretary.

[FR Doc. 2021-03276 Filed 2-17-21; 8:45 am]

BILLING CODE 6717-01-P